SECURITIES AND EXCHANGE COMMISSION

Sunshine Act Meetings

FEDERAL REGISTER CITATION OF PREVIOUS ANNOUNCEMENT: 89 FR 5949, January 29, 2024.

PREVIOUSLY ANNOUNCED TIME AND DATE OF THE MEETING: Wednesday, January 31, 2024, at 9:30 a.m.

CHANGES IN THE MEETING: The Open Meeting scheduled for Wednesday, January 31, 2024, at 9:30 a.m., to be held in the Auditorium LL-002 at the Commission's headquarters, 100 F Street NE, Washington, DC 20549 and simultaneously webcast on the Commission's website at www.sec.gov, has been postponed to Tuesday, February 6, 2024, at 10:00 a.m.

CONTACT PERSON FOR MORE INFORMATION: For further information; please contact Vanessa A. Countryman from the Office of the Secretary at (202) 551-5400.

Authority: 5 U.S.C. 552b.

Dated: January 30, 2024.
J. Matthew DeLesDernier,
Deputy Secretary.

[FR Doc. 2024-02165 Filed 1-31-24; 11:15 am]

BILLING CODE P